INTERNATIONAL TRADE COMMISSION

[USITC SE-22-050]

Sunshine Act Meetings

Agency Holding the Meeting: United States International Trade Commission.

TIME AND DATE: November 29, 2022 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. Nos. 731-TA-1299-1300 and 1302 (Review) (Circular Welded Carbon-Quality Steel Pipe from Oman, Pakistan, and the United Arab Emirates). The Commission currently is schedule to complete and file its determinations and views of the Commission on December 14, 2022.

5. Outstanding action jackets: none.

CONTACT PERSON FOR MORE INFORMATION: William Bishop, Supervisory Hearings and Information Officer, 202-205-2595.

The Commission is holding the meeting under the Government in the Sunshine Act, 5 U.S.C. 552(b). In accordance with Commission policy, subject matter listed above, not disposed of at the scheduled meeting, may be carried over to the agenda of the following meeting.

By order of the Commission:
Issued: November 14, 2022.
William Bishop,
Supervisory Hearings and Information Officer.

[FR Doc. 2022-25183 Filed 11-15-22; 4:15 pm]

BILLING CODE 7020-02-P